DEPARTMENT OF COMMERCE

Foreign-Trade Zones Board

[B-40-2015]

Authorization of Production Activity; Foreign-Trade Subzone 27N; Claremont Flock, a Division of Spectro Coating Corporation; (Acrylic and Rayon Textile Flock) Leominster, Massachusetts

On June 1, 2015, the Massachusetts Port Authority, grantee of FTZ 27, submitted a notification of proposed production activity to the Foreign-Trade Zones (FTZ) Board on behalf of Claremont Flock, a division of Spectro Coating Corporation, for its facility within Subzone 27N in Leominster, Massachusetts.

The notification was processed in accordance with the regulations of the FTZ Board (15 CFR part 400), including notice in the Federal Register inviting public comment (80 FR 35303, 6-19-2015). The FTZ Board has determined that no further review of the activity is warranted at this time. The production activity described in the notification is authorized, subject to the FTZ Act and the FTZ Board's regulations, including Section 400.14.

Dated: October 1, 2015.
Pierre V. Duy,
Acting Executive Secretary.

[FR Doc. 2015-25819 Filed 10-8-15; 8:45 am]

BILLING CODE 3510-DS-P